DEPARTMENT OF COMMERCE

International Trade Administration

[C-570-052]

Certain Hardwood Plywood Products From the People's Republic of China: Preliminary Results of Countervailing Duty Administrative Review, Preliminary Determination of No Shipments, and Partial Rescission; 2021-2022

AGENCY: Enforcement and Compliance, International Trade Administration, Department of Commerce.

SUMMARY: The U.S. Department of Commerce (Commerce) preliminarily determines that countervailable subsidies are being provided to producers and/or exporters of certain hardwood plywood products (hardwood plywood) from the People's Republic of China (China) during the period of review (POR) September 26, 2021, through December 31, 2022. Commerce also preliminarily finds that 18 companies had no subject shipments of hardwood plywood and that these companies will be eligible to participate in the certification program previously established with respect to the countervailing duty (CVD) order on certain hardwood plywood products from China. Finally, we are also rescinding this review with respect to nine companies. We invite interested parties to comment on these preliminary results.

DATES: Applicable August 15, 2024.

FOR FURTHER INFORMATION CONTACT: Robert Galantucci, AD/CVD Operations, Office V, Enforcement and Compliance, International Trade Administration, U.S. Department of Commerce, 1401 Constitution Avenue NW, Washington, DC 20230; telephone: (202) 482-2923.

SUPPLEMENTARY INFORMATION:

Background

On January 4, 2018, Commerce published in the Federal Register the CVD order on hardwood plywood from China.¹ On January 3, 2023, Commerce published in the Federal Register a notice of opportunity to request an administrative review of the Order covering entries of hardwood plywood from China from January 1, 2022, through December 31, 2022.² On March 14, 2023, based on timely requests for an administrative review, Commerce initiated the administrative review with respect to 32 companies.³

¹ See Certain Hardwood Plywood Products from the People's Republic of China: Countervailing Duty Order, 83 FR 513 (January 4, 2018) (Order).

² See Antidumping or Countervailing Duty Order, Finding, or Suspended Investigation; Opportunity to Request Administrative Review and Join Annual Inquiry Service List, 88 FR 45 (January 3, 2023).

³ We note that Commerce listed 40 company names in the initiation notice. See Initiation of Antidumping and Countervailing Duty Administrative Reviews, 88 FR 15642 (March 14, 2023) (Initiation Notice); see also Initiation of Antidumping and Countervailing Duty Administrative Reviews, 88 FR 21609 (April 11, 2023) (containing a correction to add an additional company name). However, in the Circumvention Final Determination, we found that a number of companies were duplicated via minor name variations. See Certain Hardwood Plywood Products from the People's Republic of China: Final Scope Determination and Affirmative Final Determination of Circumvention of the Antidumping and Countervailing Duty Orders, 88 FR 46740 (July 20, 2023) (Circumvention Final Determination), and accompanying Issues and Decision Memorandum (IDM) at 76; and Memorandum, “Notice of Intent to Rescind Review, In Part,” dated July 3, 2024 (Intent to Rescind Memorandum). For further discussion, see Memorandum, “Decision Memorandum for the Preliminary Results of the Countervailing Duty Administrative Review of Certain Hardwood Plywood Products from the People's Republic of China; 2021-2022,” dated concurrently with this notice (Preliminary Decision Memorandum).

On July 20, 2023, we published in the Federal Register the Circumvention Final Determination, in which we: (1) determined that certain hardwood plywood exported from Socialist Republic of Vietnam (Vietnam) and entered into the United States was circumventing the Order and therefore is now covered by the Order; and (2) established a certification program to allow eligible producers and exporters of hardwood plywood exported from Vietnam to certify that entries of hardwood plywood exported from Vietnam are not subject to the Order.⁴ We also indicated that we would: (1) expand the POR for this administrative review to begin on September 26, 2021, in order to capture the first entry suspended as a result of the circumvention determination; and (2) allow interested parties to request reviews of unliquidated/suspended entries of merchandise from Vietnam that entered from September 26, 2021, through December 31, 2021.⁵

⁴ See Circumvention Final Determination.

⁵ See Circumvention Final Determination IDM at Comment 13.

On August 11, 2023, Commerce notified parties that we received no additional requests for administrative reviews as a result of Commerce's decision to expand the POR,⁶ and on August 28, 2023, Commerce released entry data from U.S. Customs and Border Protection (CBP) to interested parties for comment.⁷ Subsequently, we notified parties of our intent to rescind this administrative review with respect to certain companies subject to this review.⁸

⁶ See Memorandum “Companies Under Review for the Expanded POR,” dated August 11, 2023.

⁷ See Memorandum, “CBP Data Release,” dated August 28, 2023.

⁸ See Intent to Rescind Memorandum at Attachment I.

On January 31, 2024, Commerce deferred the deadline for completing the preliminary results of this review until July 30, 2024.⁹ On July 22, 2024, Commerce tolled certain deadlines in this administrative proceeding by seven days.¹⁰ The deadline for the preliminary results is now August 6, 2024. For details regarding the events that occurred subsequent to the initiation of the review, see the Preliminary Decision Memorandum.

⁹ See Memorandum, “Deferral of the Preliminary Results of Antidumping and Countervailing Duty Administrative Reviews; 2022,” dated January 31, 2024.

¹⁰ See Memorandum, “Tolling of Deadlines for Antidumping and Countervailing Duty Proceedings,” dated July 22, 2024.

Scope of the Order

The merchandise covered by the scope of this Order is hardwood plywood from China. A complete description of the scope of the Order is contained in the Preliminary Decision Memorandum.

Rescission of Administrative Review, in Part

Pursuant to 19 CFR 351.213(d)(3), when there are no reviewable entries of subject merchandise during the POR subject to the CVD order for which liquidation is suspended, Commerce may rescind an administrative review, in whole or only with respect to a particular exporter or producer.¹¹ At the end of the administrative review, any suspended entries are liquidated at the assessment rate computed for the review period.¹² Therefore, for an administrative review to be conducted, there must be a reviewable, suspended entry to be liquidated at the newly calculated assessment rate. On July 3, 2024, Commerce notified all interested parties of its intent to rescind this review with respect to certain companies because those companies had no reviewable, suspended entries of subject merchandise and invited parties to comment.¹³ We received no comments on our intent to rescind the review with respect to these companies. Accordingly, in the absence of suspended entries of subject merchandise during the POR for three companies ¹⁴ for which this review was initiated, we are hereby rescinding this administrative review, in part, with respect to these companies, in accordance with 19 CFR 351.213(d)(3).

¹¹ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

¹² See 19 CFR 351.212(b)(2).

¹³ See Intent to Rescind Memorandum.

¹⁴ The companies are: (1) BAC Son Woods Processing Joint Stock Company; (2) Huong Son Wood Group Co., Ltd.; and (3) Long Phat Construction Investment and Trade Joint Stock Company.

In addition, pursuant to 19 CFR 351.213(d)(1), Commerce will rescind an administrative review, in whole or in part, if the party that requested a review withdraws the request within 90 days of the date of publication of the notice of initiation. All parties timely withdrew their review requests for: (1) Fulin Wood Import Export Company Limited; (2) Greatwood Joint Stock Company; (3) Greentech Investment Co., Ltd.; (4) Long Dat Import and Export Production Company; (5) Star Light Multimedia Co., Ltd.; and (6) VietBac Plywood LLC. Because the review requests were timely withdrawn, and no other party requested a review of these companies, we are rescinding the review with respect to these six companies (see Appendix II for a list of all companies for which Commerce is rescinding this review).

Methodology

Commerce is conducting this review in accordance with section 751(a)(1)(A) of the Tariff Act of 1930, as amended (the Act) and 19 CFR 351.213. For a full description of the methodology underlying these preliminary results, see the Preliminary Decision Memorandum. See Appendix III for a complete list of topics discussed in the Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Preliminary Determination of No Shipments

In this administrative review, we issued questionnaires to all companies under review to gather information on the quantity and value (Q&V) of their shipments of hardwood plywood to the United States.¹⁵ We received responses to these questionnaires from 21 companies, all of which reported that their suspended entries consisted exclusively of non-subject merchandise. We issued additional questionnaires to these companies and received complete responses from only 15 of them. We have analyzed the information in these responses and preliminarily find that these 15 companies have provided information to support their claims that the hardwood plywood they exported to the United States was not assembled using any of the Chinese hardwood plywood input scenarios subject to this Order.¹⁶ We are also preliminarily accepting the claims of three additional companies from which Commerce is awaiting additional information, pending the receipt of the requested information.¹⁷

¹⁵ See Commerce's Letter, “Quantity and Value Questionnaire,” dated November 20, 2023; see also Memorandum, “Clarification of Companies Required to Submit Responses to Q&V Questionnaire,” dated November 28, 2023; and Commerce's Letters, “Request for Entry Information,” dated February 5, 2024 (collectively, Q&V Questionnaire).

¹⁶ See Circumvention Final Determination, 88 FR at 46742.

¹⁷ The responses to the questionnaires issued to the following companies are currently due on or after the date of these preliminary results: An An Plywood Joint Stock Company, Greatwood Hung Yen Joint Stock Company, and Thang Long Wood Panel Company (Thang Long).

We also preliminarily find it appropriate to permit the 15 companies referenced above, as well as Thang Long, to participate in the certification program at the conclusion of this administrative review. The other two companies are currently eligible to participate in this certification program, and we preliminarily find no basis to alter their status.¹⁸

¹⁸ See Appendix I for a complete list of companies subject to this review that are preliminarily eligible to certify their entries of hardwood plywood exported from Vietnam.

Use of Adverse Facts Available

Groll Ply and Cabinetry Co., Ltd. (Groll Ply), Hoang Lam Plywood Joint Stock Co. (Hoang Lam), Plywood Sunshine Co., Ltd. (Plywood Sunshine), Quang Phat Wood Joint Stock Company (Quang Phat), and Quoc Thai Forestry Import Export Limited Company (Quoc Thai) had entries of plywood during the POR that they claimed were of non-subject merchandise. We required these companies to provide information related to these entries, but they did not respond to these requests for information, and therefore, we are preliminary finding that Groll Ply, Hoang Lam, Plywood Sunshine, Quang Phat, and Quoc Thai failed to support their claims that their entries of plywood during the POR were not of subject merchandise.

Pursuant to sections 776(a) and (b) of the Act, Commerce has assigned Groll Ply, Hoang Lam, Plywood Sunshine, Quang Phat, and Quoc Thai a subsidy rate of 100.11 percent based on facts available with adverse inferences (AFA). These five companies ceased participating in this review and did not provide information requested by Commerce; accordingly, we find that necessary information is not available on the record, they failed to provide the requested information in the form and manner requested, and significantly impeded the proceeding, pursuant to section 776(a) of the Act. Additionally, we find that Groll Ply, Hoang Lam, Plywood Sunshine, Quang Phat, and Quoc Thai had necessary information in their possession and elected not to submit the information and, thus, that the five companies did not act to the best of their abilities in responding to Commerce's information request by the applicable deadline, pursuant to section 776(b) of the Act. For additional information regarding this determination, see the Preliminary Decision Memorandum.

Commerce preliminary determines that the following net countervailable subsidy rates exist for the period of September 26, 2021, through December 31, 2022:

Company | Subsidy rate (percent ad valorem)
Groll Ply and Cabinetry Co., Ltd | * 100.11
Plywood Sunshine Co., Ltd | * 100.11
Quoc Thai Forestry Import Export Limited Company | * 100.11
Hoang Lam Plywood Joint Stock Co | * 100.11
Quang Phat Wood Joint Stock Company | * 100.11
* This rate is based on AFA.

Disclosure

Normally, Commerce discloses to interested parties the calculations performed in preliminary results within five days of any public announcement or, if there is no public announcement, within five days of the date of publication of the notice of preliminary results in the Federal Register, in accordance with 19 CFR 351.224(b). However, because Commerce is applying AFA to the above companies, there are no additional calculations to disclose.

Certification Eligibility

Due to their failure to provide necessary information for determining certification eligibility, we preliminarily determine that Groll Ply, Hoang Lam, Plywood Sunshine, Quang Phat, and Quoc Thai remain barred from participating in the certification program in this proceeding.

Verification

From July 1, through July 10, 2024, we conducted verification of the questionnaire responses of five exporters/producers under review, Arrow Forest International Co., Ltd., Hai Hien Bamboo Wood Joint Stock Company, Lechenwood Viet Nam Company Limited, Long Luu Plywood Production Co., Ltd., and TL Trung Viet Company Limited. We intend to verify the information submitted by the remaining exporters listed in Appendix I after the preliminary results.

Public Comment

In accordance with 19 CFR 351.309(c), case briefs or other written comments may be submitted to the Assistant Secretary for Enforcement and Compliance no later than seven days after the date on which the last verification report is issued. Rebuttal briefs, limited to issues raised in case briefs, may be submitted no later than five days after the deadline for case briefs.¹⁹ Pursuant to 19 CFR 351.309(c)(2) and (d)(2), parties who submit case briefs or rebuttal briefs in this review are encouraged to submit with each argument: (1) a statement of the issue; (2) a brief summary of the argument; and (3) a table of authorities.

¹⁹ See 19 CFR 351.309; see also 19 CFR 351.303 (for general filing requirements).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁰ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).²¹

²⁰ We use the term “issue” here to describe an argument that Commerce would normally address in a comment of the Issues and Decision Memorandum.

²¹ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Assessment Rates

Upon issuance of the final results of this review, Commerce shall determine, and CBP shall assess, countervailing duties on all appropriate entries covered by this review. For all entries of merchandise exported by the companies listed in Appendix I, we intend to instruct CBP to liquidate the entries without regard to countervailing duties if these preliminary results are unchanged for the final results. For entries of merchandise exported by Groll Ply, Hoang Lam, Plywood Sunshine, Quang Phat, and Quoc Thai, we will instruct CBP to liquidate their entries at the assigned rate of 100.11 percent. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies (see Appendix II) for which this review is rescinded with these preliminary results, we will instruct CBP to assess countervailing duties on all appropriate entries at a rate equal to the cash deposit of estimated countervailing duties required at the time of entry, or withdrawal from warehouse, for consumption, during the period September 26, 2021, through December 31, 2022, in accordance with 19 CFR 351.212(c)(l)(i).

Commerce intends to issue assessment instructions to CBP for these companies no earlier than 35 days after the date of publication of the preliminary results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends upon publication of the final results, to instruct CBP to collect cash deposits of the estimated countervailing duties in the amounts calculated in the final results of this review for the respective companies listed above with regard to shipments of subject merchandise entered, or withdrawn from warehouse, for consumption on or after the date of publication of the final results of this review.

For all non-reviewed firms, CBP will continue to collect cash deposits of estimated countervailing duties at the all-others rate or the most recent company-specific rate applicable to the company, as appropriate. These cash deposit requirements, when imposed, shall remain in effect until further notice.

Final Results of Review

Unless otherwise extended, Commerce intends to issue the final results of this administrative review, which will include the results of its analysis of issues raised in any briefs, within 120 days of publication of these preliminary results of review, pursuant to section 751(a)(3)(A) of the Act.

Notification to Interested Parties

These preliminary results of administrative review are issued and published in accordance with sections 751(a)(1) and 777(i)(l) of the Act, and 19 CFR 351.221(b)(4).

Dated: August 6, 2024.
Scot Fullerton,
Acting Deputy Assistant Secretary for Antidumping and Countervailing Duty Operations.

Appendix I

Participating Companies Which Reported No POR Shipments of Subject Merchandise

1. An An Plywood Joint Stock Company

2. Arrow Forest International Co., Ltd.

3. Cam Lam Vietnam Joint Stock Company ²²

²² We also initiated a review of this company under the minor name variation Camlam Vietnam Joint Stock Company. See Intent to Rescind Memorandum.

4. Eagle Industries Company Limited

5. Golden Bridge Industries Pte. Ltd.

6. Govina Investment Joint Stock Company

7. Greatriver Wood Co., Ltd.²³

²³ We also initiated a review of Cong Ty TNHH Greatriver Wood. We have preliminarily treated these companies as the same entity.

8. Greatwood Hung Yen Joint Stock Company ²⁴

²⁴ We also initiated a review of this company under its former name Greatwood Company Limited. See Circumvention Final Determination IDM at 76.

9. Hai Hien Bamboo Wood Joint Stock Company

10. Her Hui Wood (Vietnam) Co., Ltd.

11. Innovgreen Thanh Hoa Co. Ltd.

12. Lechenwood Vietnam Company Limited ²⁵

²⁵ We also initiated a review of Lechenwood Viet Nam Company Limited. See Intent to Rescind Memorandum.

13. Long LUU Plywood Production Co., Ltd.

14. TEKCOM Corporation

15. Thang Long Wood Panel Company Ltd.²⁶

²⁶ We also initiated a review of this company under the minor name variation Thang Long Wood Panel Company. See Intent to Rescind Memorandum.

16. TL Trung Viet Company Limited

17. Vietnam Zhongjia Wood Co., Ltd

18. Win Faith Trading Limited ²⁷

²⁷ We also initiated a review of this company under the minor name variation Win Faith Trading. See Intent to Rescind Memorandum.

Appendix II

Companies Rescinded From Review

A. Withdrawals of Requests for Review:

1. Fulin Wood Import Export Company Limited

2. Greentech Investment Co., Ltd.

3. Star Light Multimedia Co., Ltd.

4. Long Dat Import and Export Production Company

5. VietBac Plywood LLC

6. Greatwood Joint Stock Company

B. No Suspended Entries during the POR

1. BAC Son Woods Processing Joint Stock Company

2. Huong Son Wood Group Co., Ltd.

3. Long Phat Construction Investment and Trade Joint Stock Company

Appendix III

List of Topics Discussed in the Preliminary Decision Memorandum

I. Summary

II. Background

III. Scope of the Order

IV. Rescission of Administrative Review, In Part

V. Discussion of Methodology

VI. Certification Program

VII. Recommendation

[FR Doc. 2024-18286 Filed 8-14-24; 8:45 am]

BILLING CODE 3510-DS-P